CHEMICAL SAFETY AND HAZARD INVESTIGATION BOARD

Sunshine Act Meeting

TIME AND DATE: September 24, 2021, 1:00 p.m. EDT (4 hours).

PLACE: The public meeting will be held virtually via ZOOM. The access information will be provided by email to registrants. Registration is required via the below link: https://www.zoomgov.com/meeting/register/vJItdOqpqjkuEhyI9WTTEDzJN1ztNBx0rGg. After registering, you will receive a confirmation email containing information about joining the meeting.

STATUS: Open to the public.

MATTERS TO BE CONSIDERED: The Chemical Safety and Hazard Investigation Board (CSB) announces that it will convene a public meeting to release two final investigation reports. The first report details the investigation into a fatal incident on May 3, 2019. The incident occurred when a flammable vapor cloud found an ignition source and ignited, causing an explosion and fire. The flammable vapor originated from the area where AB Specialty was making a silicon hydride emulsion. The release fatally injured four employees and seriously injured another employee. This facility is operated by AB Specialty Silicones, LLC (AB Specialty).

The second report details the investigation into a fatal incident on September 21, 2020, at the Evergreen Packaging paper mill in Canton, North Carolina. The incident occurred when an electric heat gun fell into a bucket of flammable resin, igniting a fire. The incident occurred inside a process vessel that was a permit-required confined space. The fire spread to a connected process vessel and fatally injured two contract workers.

CSB staff will present its final reports with corresponding findings and recommendations. Staff presentations are preliminary and are intended to allow the Board to consider in a public forum the issues and factors involved in this case.

To submit public comments for the record please email us at public@csb.gov. Public comments sent in advance may be addressed at the meeting.

CONTACT PERSON FOR FURTHER INFORMATION: Hillary Cohen, Communications Manager, at public@csb.gov or (202) 446-8094. Further information about this public meeting can be found on the CSB website at: www.csb.gov.

ADDITIONAL INFORMATION:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. This meeting will only be available via ZOOM. Close captions (CC) will be provided.

Dated: September 14, 2021
Tamara Qureshi,
Assistant General Counsel, Chemical Safety and Hazard Investigation Board.

[FR Doc. 2021-20291 Filed 9-15-21; 4:15 pm]

BILLING CODE 6350-01-P